DEPARTMENT OF COMMERCE

Foreign-Trade Zones Board

[B-48-2018]

Foreign-Trade Zone (FTZ) 176—Rockford, Illinois; Notification of Proposed Production Activity; Leading Americas Inc. (Wire Harnesses); Hampshire, Illinois

Leading Americas Inc. (Leading Americas) submitted a notification of proposed production activity to the FTZ Board for its facility in Hampshire, Illinois. The notification conforming to the requirements of the regulations of the FTZ Board (15 CFR 400.22) was received on July 16, 2018.

The Leading Americas facility is located within Site 17 of FTZ 176. The facility is will be used for the production of wire harnesses for the forklift and heavy-duty construction equipment industries. Pursuant to 15 CFR 400.14(b), FTZ activity would be limited to the specific foreign-status materials and components and specific finished products described in the submitted notification (as described below) and subsequently authorized by the FTZ Board.

Production under FTZ procedures could exempt Leading Americas from customs duty payments on the foreign-status components used in export production. On its domestic sales, for the foreign-status materials/components noted below, Leading Americas would be able to choose the duty rates during customs entry procedures that apply to wire harnesses (duty rate 3.5%). Leading America would be able to avoid duty on foreign-status components which become scrap/waste. Customs duties also could possibly be deferred or reduced on foreign-status production equipment.

The components and materials sourced from abroad include electrical tape, electrical terminals, copper winding wire, electrical connectors, and flexible polyvinyl chloride tubes (duty rate ranges from duty-free to 5.8%).

Public comment is invited from interested parties. Submissions shall be addressed to the Board's Executive Secretary at the address below. The closing period for their receipt is September 4, 2018.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Juanita Chen at juanita.chen@trade.gov or 202-482-1378.

Dated: July 17, 2018.
Elizabeth Whiteman,
Acting Executive Secretary.

[FR Doc. 2018-15690 Filed 7-20-18; 8:45 am]

BILLING CODE 3510-DS-P